DEPARTMENT OF HEALTH AND HUMAN SERVICES

Centers for Medicare & Medicaid Services

[Document Identifiers: CMS-10396 and CMS-10462]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments must be received by March 18, 2014.

ADDRESSES: When commenting, please reference the document identifier or OMB control number (OCN). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number __, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION:

Contents

This notice sets out a summary of the use and burden associated with the following information collections. More detailed information can be found in each collection's supporting statement and associated materials (see ADDRESSES).

CMS-10396 Medication Therapy Management Program Improvements

CMS-10462 Community First Choice Option

Under the Paperwork Reduction Act (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collections

1. Type of Information Collection Request: Extension of a currently approved collection; Title of Information Collection: Medication Therapy Management Program Improvements; Use: Information collected by Part D medication therapy management programs (as required by the standardized format for the comprehensive medication review summary) will be used by beneficiaries or their authorized representatives, caregivers, and their healthcare providers to improve medication use and achieve better healthcare outcomes. Form Number: CMS-10396 (OCN: 0938-1154); Frequency: Occasionally; Affected Public: Private sector (business or other for-profits); Number of Respondents: 682; Total Annual Responses: 280,352; Total Annual Hours: 163,539. (For policy questions regarding this collection contact Gary Wirth at 410-786-3977).

2. Type of Information Collection Request: New collection (request for a new OMB control number); Title of Information Collection: Community First Choice Option; Use: This project is an evaluation of the implementation and progress of the Community First Choice (CFC) Option. The results of the study will be included in the final Report to Congress, to be delivered by the Secretary of Health and Human Services in 2015. The project is designed to assist CMS and Congress in their understanding of: States' CFC implementation plans, the effectiveness of the CFC Option on individuals receiving home- and community-based attendant care, and States' spending on long-term services and supports.

Researchers will request data from States approved for CFC via a data form and semi-structured interviews. Information obtained will be used to better understand CFC program design, the targeted patient population, and intended outcomes. At this time, we have only approved California's program. To provide comparative information to the Secretary, researchers will also collect data from States that have decided not to pursue the CFC option. Data will be analyzed and developed into a report to Congress which will evaluate the effectiveness of the CFC option, the program's impact on participants' physical and emotional health, and a comparative analysis of the costs of community-based services and those provided in institutional settings. Form Number: CMS-10462 (OCN: 0938—New); Frequency: Once; Affected Public: Individuals and households, private sector (business or other for-profits and not-for-profit institutions), and State, Local, or Tribal Governments; Number of Respondents: 108; Total Annual Responses: 126; Total Annual Hours: 225. (For policy questions regarding this collection contact Elizabeth Garbarczyk at 410-786-0426).

Dated: January 14, 2014.
Martique Jones,
Deputy Director, Regulations Development Group, Office of Strategic Operations and Regulatory Affairs.

[FR Doc. 2014-00916 Filed 1-16-14; 8:45 am]

BILLING CODE 4120-01-P